NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13 (44 U.S.C. 3501 et seq.). This is the second notice for public comment; the first was published in the Federal Register at 77 FR 32700, and no comments were received. NSF is forwarding the proposed renewal submission to the Office of Management and Budget (OMB) for clearance simultaneously with the publication of this second notice. The full submission may be found at: http://www.reginfo.gov/public/do/PRAMain.

Comments: Comments regarding (a) whether the collection of information is necessary for the proper performance of the functions of the NSF, including whether the information will have practical utility; (b) the accuracy of the NSF's estimate of the burden of the proposed collection of information; (c) ways to enhance the quality, utility and clarity of the information to be collected, including through the use of automated collection techniques or other forms of information technology; (d) ways to minimize the burden of the collection of information on those who are to respond, including through the use of appropriate automated or other forms of information technology should be addressed to: Office of Information and Regulatory Affairs of OMB, Attention: Desk Officer for National Science Foundation, 725 7th Street NW., Room 10235, Washington, DC 20503, and to Suzanne H. Plimpton, Reports Clearance Officer, National Science Foundation, 4201 Wilson Boulevard, Suite 295, Arlington, Virginia 22230 or send email to splimpto@nsf.gov.

DATES: Comments regarding these information collections are best assured of having their full effect if received within 30 days of this notification. Copies of the submission may be obtained by calling 703-292-7556. NSF may not conduct or sponsor a collection of information unless the collection of information displays a currently valid OMB control number and the agency informs potential persons who are to respond to the collection of information that such persons are not required to respond to the collection of information unless it displays a currently valid OMB control number.

SUPPLEMENTARY INFORMATION:

Title of Collection: 2013 National Survey of College Graduates.

OMB Approval Number: 3145-0141.

Type of Request: Intent to seek approval to reinstate an information collection for three years.

1. Abstract. The National Survey of College Graduates (NSCG) has been conducted biennially since the 1970s. The 2013 NSCG sample will be selected from the 2011 American Community Survey (ACS), the 2010 NSCG, and the 2010 National Survey of Recent College Graduates (NSRCG). The purpose of this longitudinal panel survey is to provide national estimates on the science and engineering workforce and changes in their employment, education and demographic characteristics. The NSCG is one of the components of the Scientists and Engineers Statistical Data System (SESTAT), which produces national estimates of the size and characteristics of the nation's science and engineering population. The 2013 NSCG will provide necessary input into the SESTAT.

The National Science Foundation Act of 1950, as subsequently amended, includes a statutory charge to “* * * provide a central clearinghouse for the collection, interpretation, and analysis of data on scientific and engineering resources, and to provide a source of information for policy formulation by other agencies of the Federal Government.” The NSCG is designed to comply with these mandates by providing information on the supply and utilization of the nation's scientists and engineers.

The NSF uses the information from the NSCG to prepare congressionally mandated reports such as Women, Minorities and Persons with Disabilities in Science and Engineering and Science and Engineering Indicators. A public release file of collected data, designed to protect respondent confidentiality, will be made available to researchers on the Internet.

The U.S. Census Bureau, as in the past, will conduct the NSCG for NSF. The survey data collection will begin in February 2013 using web and mail questionnaires. Nonrespondents to the web or mail questionnaire will be followed up by computer-assisted telephone interviewing. The survey will be collected in conformance with the Confidential Information Protection and Statistical Efficiency Act of 2002, and the individual's response to the survey is voluntary. NSF will ensure that all information collected will be kept strictly confidential and will be used only for statistical purposes.

2. Expected Respondents. A statistical sample of approximately 144,000 persons will be contacted in 2013. NSF estimates the response rate to be 80 to 90 percent.

3. Estimate of Burden. The amount of time to complete the questionnaire may vary depending on an individual's circumstances; however, on average it will take approximately 25 minutes. NSF estimates that the total burden for the 2013 NSCG will be no more than 50,542 hours.

Dated: September 17, 2012.
Suzanne H. Plimpton,
Reports Clearance Officer, National Science Foundation.

[FR Doc. 2012-23258 Filed 9-19-12; 8:45 am]

BILLING CODE 7555-01-P